DEPARTMENT OF JUSTICE

Notice of Lodging Proposed Consent Decree

In accordance with Departmental Policy, 28 CFR 50.7, notice is hereby given that a proposed Consent Decree in United States v. John F. Ashe, Jr., Dianne Ashe, and Wayne D. Raether, d/b/a County Line Grading, Civil Action No.13-cv-246, was lodged with the United States District Court for the Western District of Wisconsin on April 10, 2013.

This proposed Consent Decree concerns a complaint filed by the United States against John F. Ashe, Jr., Dianne Ashe, and Wayne D. Raether, d/b/a County Line Grading, pursuant to Section 309(b) of the Clean Water Act, 33 U.S.C. 1319(b), to obtain injunctive relief from the Defendants for violating the Clean Water Act by discharging pollutants without a permit into waters of the United States. The proposed Consent Decree resolves these allegations by requiring the Defendants to restore the impacted areas.

The Department of Justice will accept written comments relating to this proposed Consent Decree for thirty (30) days from the date of publication of this Notice. Please address comments to Laurel A. Bedig, United States Department of Justice, Environment and Natural Resources Division, Environmental Defense Section, P.O. Box 7611, Washington, DC 20044 and refer to United States v. John F. Ashe, Jr., Dianne Ashe, and Wayne D. Raether, d/b/a County Line Grading, DJ # 90-5-1-1-19322.

The proposed Consent Decree may be examined at the Clerk's Office, United States District Court for the Western District of Wisconsin, Robert W. Kastenmeier United States Courthouse, 120 North Henry Street, Room 320, Madison, WI 53703-2559. In addition, the proposed Consent Decree may be examined electronically at http://www.justice.gov/enrd/Consent_Decrees.html.

Cherie L. Rogers,
Assistant Section Chief, Environmental Defense Section, Environment and Natural Resources Division.

[FR Doc. 2013-08969 Filed 4-16-13; 8:45 am]

BILLING CODE P